DELAWARE RIVER BASIN COMMISSION

Notice of Public Hearing; Proposal To Amend the Administrative Procedure and Fee Schedule for the Renewal of Projects Under Section 3.8 and Article 10 of the Delaware River Basin Compact

AGENCY: Delaware River Basin Commission.

ACTION: Notice of public hearing.

SUMMARY: The Delaware River Basin Commission (“Commission”) will hold a public hearing to receive comments on a proposed amendment to the Commission's administrative procedure and fee schedule for the renewal of project approvals under Section 3.8 and Article 10 of the Delaware River Basin Compact.

DATES: The public hearing will be held during the Commission's regularly scheduled business meeting on January 19, 2005 at 1:30 p.m. Persons wishing to testify at the hearing are asked to register in advance with the Commission by phoning 609-883-9500, extension 224. Submission of written comments by January 14, 2005 would be appreciated, but written comments will be accepted through the close of the public hearing on Wednesday, January 19, 2005.

ADDRESSES: The public hearing will be held in the Goddard Room of the Commission's office building at 25 State Police Drive in West Trenton, New Jersey. Written comments should be addressed to the Commission Secretary as follows: by e-mail to paula.schmitt@drbc.state.nj.us; by fax to 609-883-9522; by U.S. Mail to Commission Secretary, DRBC, P.O. Box 7360, West Trenton, NJ 08628-0360; or by overnight mail to Commission Secretary, DRBC, 25 State Police Drive, West Trenton, NJ 08628-0360.

FOR FURTHER INFORMATION CONTACT: The full text of the proposed amendment is posted on the Commission's Web site, http://www.drbc.net. Please contact Commission Secretary Pamela Bush, 609-883-9500 ext. 203, with questions about the proposed action.

SUPPLEMENTARY INFORMATION: The Commission's fee schedule for the review of projects under Section 3.8 and Article 10 of the Delaware River Basin Compact is set forth in Resolution No. 2003-14, duly adopted by the Commission on June 26, 2003. The proposed amendments to the schedule would add provisions (a) for the administrative continuance of dockets and permits (collectively, “approvals”) pending Commission action on renewal applications that are timely submitted; and (b) imposition of a fee of $1,000, in addition to the ordinary review fee, for the review of renewal applications not submitted in a timely fashion. In accordance with the proposed amendment, a docket holder or permittee whose approval has been administratively continued will not be subject to penalties for operating without a docket or permit during the period between expiration of the approval and Commission action on an application for renewal, provided that the docket holder or permittee will be responsible for violations of the terms and conditions of its approval to the same extent as if the approval had been renewed prior to its expiration.

In order to phase in the new program, the proposed rule sets forth one timeline for approvals that expire before October 1, 2005 and another for approvals that expire on or after October 1, 2005.

Approvals expiring before October 1, 2005 are proposed to be administratively continued pending issuance of a docket renewal when the docket holder or permittee submits a complete application within 90 calendar days after receipt of a written notice from the Executive Director or by September 30, 2005, whichever is earlier. The Executive Director may extend the deadline for good cause shown in the event a substantially complete application, along with the full fee, is submitted by the deadline. The fee of $1,000, payable in addition to the ordinary fee, is proposed to be charged for renewal applications submitted after September 30, 2005.

Approvals expiring after September 30, 2005 are proposed to be administratively continued pending issuance of a docket renewal when the docket holder or permittee submits a complete application at least 120 calendar days in advance of the expiration date. If the approval establishes a different application submission date, the docket or permit is controlling. Again, the Executive Director may extend the deadline for good cause shown, in the event a substantially complete application, along with the full fee, is submitted by the deadline. A fee of $1,000 above the ordinary fee is proposed to be charged for renewal applications submitted fewer than 120 calendar days before the approval's expiration date.

The amendment provides for the Executive Director to implement procedures to furnish written notice to docket holders and permittees in advance of their approval expiration dates, reminding them to file a timely renewal application. However, failure of the Executive Director to send such notice or lack of receipt of the notice by the docket holder or permittee will not relieve the docket holder or permittee of any obligation or condition or create any defense.

Dated: December 13, 2004.
Pamela M. Bush,
Commission Secretary.

[FR Doc. 04-27703 Filed 12-17-04; 8:45 am]

BILLING CODE 6360-01-P